DEPARTMENT OF COMMERCE

National Institute of Standards and Technology

Notice of Government Owned Invention Available for Licensing

AGENCY: National Institute of Standards and Technology, Commerce.

ACTION: Notice of jointly owned invention available for licensing.

SUMMARY: The invention listed below is jointly owned by the U.S. Government as represented by the Department of Commerce, and Cree Inc. The invention is available for licensing in accordance with 35 U.S.C. 207 and 37 CFR part 404 to achieve expeditious commercialization of results of federally funded research and development.

FOR FURTHER INFORMATION CONTACT: Technical and licensing information on this invention may be obtained by writing to: National Institute of Standards and Technology, Office of Technology Partnerships, Attn: Mary Clague, Building 222, Room A155, Gaithersburg, MD 20899. Information is also available via telephone: 301-975-4188, fax 301-975-3482, or e-mail: mary.clague@nist.gov. Any request for information should include the NIST Docket number and title for the invention as indicated below.

SUPPLEMENTARY INFORMATION: NIST may enter into a Cooperative Research and Development Agreement (“CRADA”) with the licensee to perform further research on the invention for purposes of commercialization. The invention available for licensing is: [NIST DOCKET NUMBER: 06-008]

Title: Power Switching Semiconductor Devices Including Rectifying Junction-Shunts.

Abstract: Typical applications for switching power devices (e.g., IGBT or Power MOSFET) require reverse conduction for rectification or clamping by either an internal or external diode. Because Power MOSFETs have an inherent PiN diode within the structure, this internal diode must either be made to work effetely for the rectification and clamping, or must be bypassed by an external diode. Because the inherent internal PiN diode results in majority carrier injection from the drain-body junction (PN junction at Body-to-Drift-Layer interface) it has slow reverse recovery time and may result in SiC crystal degradation. The concept of inclusion of reverse conducting SIR junction shunts provides substantial benefits by: (1) Bypassing current flow from the inherent internal drain-body junction preventing it from injecting majority carriers and thus preventing slow reverse recovery and crystal degradation, and (2) enabling current to flow for voltages lower than the drain-body junction built in potential (e.g., approximately 3 V for SiC) and thus provides lower on-state losses than a PiN diode for the lower current range condition.

Dated: February 27, 2008.
Richard F. Kayser,
Acting Deputy Director.

[FR Doc. E8-4135 Filed 3-3-08; 8:45 am]

BILLING CODE 3510-13-P